DEPARTMENT OF ENERGY

Federal Energy Regulatory Commission

[Docket No. CP02-406-000]

Columbia Gas Transmission Corporation; Notice of Request Under Blanket Authorization

July 18, 2002.

Take notice that on July 12, 2002, Columbia Gas Transmission Corporation (Columbia), 12801 Fair Lakes Parkway, Fairfax, Virginia 22030-0146, filed in Docket No. CP02-406-000 a request pursuant to Sections 157.205 and 157.216 of the Commission's Regulations (18 CFR 157.205 and 157.216) under the Natural Gas Act (NGA) for authorization to abandon delivery point facilities for service to two end-users in Ohio, under Columbia's blanket certificate issued in Docket No. CP83-76-000, pursuant to Section 7 of the NGA, all as more fully set forth in the application which is on file with the Commission and open to public inspection. This filing may be viewed on the Web at http://www.ferc.fed.us/online/htm (call 202-208-2222 for assistance).

Columbia requests authorization to abandon by removal facilities installed to provide natural gas service to two residential end-use customers of Columbia Gas of Ohio (COH) located in Licking and Knox Counties, Ohio. It is stated that Columbia was authorized to own and operate the facilities pursuant to Commission authorization in Docket No. CP71-132. Columbia states that the taps are no longer needed because the service to the two customers is now being provided through distribution lines belonging to COH.

Any questions regarding the application may be directed to Fredric J. George, Senior Attorney, at (304) 357-2359.

Any person or the Commission's staff may, within 45 days after issuance of the instant notice by the Commission, file pursuant to Rule 214 of the Commission's Procedural Rules (18 CFR 385.214) a motion to intervene or notice of intervention and pursuant to Section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Comments and protests may be filed electronically in lieu of paper. See 18 CFR 385.2001(a)(1)(iii) and the instructions on the Commission's Web site at http://ferc.fed.us/efi/doorbell.htm.

Linwood A. Watson, Jr.,
Deputy Secretary.

[FR Doc. 02-18684 Filed 7-23-02; 8:45 am]

BILLING CODE 6717-01-P